NUCLEAR REGULATORY COMMISSION

10 CFR Part 50

[NRC-2020-0036]

RIN 3150-AK71

Reporting Requirements for Nonemergency Events at Nuclear Power Plants

AGENCY: Nuclear Regulatory Commission.

ACTION: Public meeting.

SUMMARY: The U.S. Nuclear Regulatory Commission (NRC) plans to hold a public meeting to discuss a rulemaking activity related to reporting requirements for nonemergency events at nuclear power plants. The purpose of the meeting is to provide information on the background and status of the rulemaking and to obtain input from interested stakeholders.

DATES: The public meeting will be held on November 4, 2021. See Section II, Public Meeting, of this document for more information on the meeting.

ADDRESSES: Please refer to Docket ID NRC-2020-0036 when contacting the NRC about the availability of information regarding this public meeting. You may obtain publicly available information related to this action by any of the following methods:

• Federal Rulemaking Website: Go to https://www.regulations.gov and search for Docket ID NRC-2020-0036. Address questions about NRC dockets to Dawn Forder; telephone: 301-415-3407; email: Dawn.Forder@nrc.gov. For technical questions contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, at 301-415-4737, or by email to PDR.Resource@nrc.gov.

• Attention: The Public Document Room, where you may examine and order copies of public documents, is currently closed. You may submit your request via email at PDR.Resource@nrc.gov or call 1-800-397-4209 between 8:00 a.m. and 4:00 p.m. (ET), Monday through Friday, except Federal holidays.

FOR FURTHER INFORMATION CONTACT: George Tartal, Office of Nuclear Material Safety and Safeguards, telephone: 301-415-0016, email: George.Tartal@nrc.gov, U.S. Nuclear Regulatory Commission, Washington, DC 20555-0001.

SUPPLEMENTARY INFORMATION:

I. Background

On August 12, 2021, the NRC published a notice in the Federal Register informing the public that it will consider in the rulemaking process the issues raised in a petition for rulemaking regarding reporting requirements for nonemergency events at nuclear power plants (86 FR 44290). The NRC is in the early stages of developing a regulatory basis document that will discuss the regulatory issues, alternatives to resolve those issues, and the NRC staff's recommended alternative. The NRC will consider the information shared at the meeting in the development of the regulatory basis document.

II. Public Meeting

The public meeting will be on November 4, 2021, from 2:00 p.m. to 5:00 p.m. (ET). Interested stakeholders may attend via telephone or online seminar. The purpose of the meeting is to provide background information on this rulemaking activity and obtain stakeholder input to enhance the NRC's understanding of the associated issues. Further, the staff will describe the various opportunities for the public to participate in the rulemaking process. The NRC will not provide formal written responses to the oral comments made at this meeting.

Information for the teleconference and online seminar is available in the meeting notice, which can be accessed through the NRC's public website at: https://www.nrc.gov/pmns/mtg or in ADAMS under accession number ML21288A427. The meeting notice includes questions for discussion to support development of the regulatory basis.

Dated: October 25, 2021.
For the Nuclear Regulatory Commission.
John R. Tappert,
Director, Division of Rulemaking, Environmental, and Financial Support, Office of Nuclear Material Safety and Safeguards.

[FR Doc. 2021-23550 Filed 10-28-21; 8:45 am]

BILLING CODE 7590-01-P